FEDERAL RESERVE SYSTEM

Notice of Proposals To Engage in Permissible Nonbanking Activities or To Acquire Companies That Are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than May 18, 2001.

A. Federal Reserve Bank of New York (Betsy Buttrill White, Senior Vice President) 33 Liberty Street, New York, New York 10045-0001:

1. Banco Espirito Santo, S.A.; Espirito Santo Financial (Portugal) Sociedade Gestora de Participacoes Sociais, S.A.; Bespar Sociedade Gestora de Participacoes Sociais, S.A.; all of Lisbon, Portugal; and E.S. Control Holding S.A.; Espirito Santo Financial Group S.A.; E.S. International Holding S.A.; all of Luxembourg-Kirchberg, Luxembourg; to retain an existing investment in and acquire additional shares of Clarity Incentive Systems, New York, New York, and thereby continue engaging in data processing and management consulting activities pursuant to §§ 225.28(b)(9) and (b)(14) of Regulation Y.

2. Banco Espirito Santo, S.A.; Espirito Santo Financial (Portugal) Sociedade Gestora de Participacoes Sociais, S.A.; Bespar Sociedade Gestora de Participacoes Sociais, S.A.; all of Lisbon, Portugal; and E.S. Control Holding S.A.; Espirito Santo Financial Group S.A.; E.S. International Holding S.A.; all of Luxembourg-Kirchberg, Luxembourg; to retain shares of FiNet.com, Inc., San Ramon, California, and thereby continue engaging in extending credit and activities related to extending credit pursuant to §§ 225.28(b)(1) and (b)(2) of Regulation Y.

Board of Governors of the Federal Reserve System, April 30, 2001.
Robert deV. Frierson
Associate Secretary of the Board.

[FR Doc. 01-11165 Filed 5-3-01; 8:45 am]

BILLING CODE 6210-01-S